DEPARTMENT OF VETERANS AFFAIRS

Fund Availability Under VA's Homeless Providers Grant and Per Diem Program

AGENCY: Department of Veterans Affairs.

ACTION: Notice.

SUMMARY: The Department of Veterans Affairs (VA) is announcing the availability of funds for applications for assistance under the Per Diem Only component of VA's Homeless Providers Grant and Per Diem Program. This Notice of Funding Availability (NOFA) includes funding priorities for those applicants who will serve specific homeless veteran populations that are identified in this NOFA, or implement a new “transition in place” housing model to facilitate housing stabilization. This Notice contains information concerning the program, funding priorities, application process, and amount of funding available.

DATES: Applications must be received in accordance with this NOFA no later than 4 p.m. Eastern Time on Wednesday, May 30, 2012.

FOR FURTHER INFORMATION CONTACT: Chelsea Watson, VA's Homeless Providers Grant and Per Diem Program, Department of Veterans Affairs, 10770 North 46th Street, Suite C-200, Tampa, Florida, 33617; (toll-free) (877) 332-0334.

SUPPLEMENTARY INFORMATION: This Notice announces the availability of per diem funds for assistance under VA's Homeless Providers Grant and Per Diem Program for eligible entities. VA will award only one application for funding per nonprofit organization per state. For example: If a nonprofit organization has several entities in a state that are a part of their overall organization, whether or not those entities are separately incorporated, only one of these entities would be eligible for a grant award. Please refer to 38 CFR part 61 for detailed program information.

A. Purpose

VA is pleased to issue this NOFA for VA's Homeless Providers Grant and Per Diem Program as a part of the effort to end homelessness among our Nation's veterans. VA expects to fund approximately 450 beds over a 3-year period under this NOFA for Funding Priority 1 (see section E., below, for explanation of funding priorities). The maximum award of $1.2 million will support an average of 25 beds per night, per project, at the current maximum per diem rate of $38.90; taking into consideration that the maximum per diem rate may increase in future years. VA expects to fund approximately 150 beds under Funding Priorities 2-4 for as long as the grantee meets the program requirements under 38 CFR part 61.

B. Definitions, Regulations, and Authority

Funding applied for under this NOFA is authorized by 38 U.S.C. 2011, 2012, 2013, 2061, and 2064. For definitions of terms that appear in this NOFA, and regulations governing VA's Homeless Providers Grant and Per Diem Program, see 38 CFR part 61.

C. Submission of Application

No later than 4 p.m. Eastern Time on Wednesday, May 30, 2012, applicant must either:

1. Submit complete application to www.Grants.gov by 4 p.m. Eastern Time on Wednesday, May 30, 2012; or

2. Submit an original, completed, and collated grant application (plus three completed collated copies) to the VA Homeless Providers Grant and Per Diem Program Office, 10770 North 46th Street, Suite C-200, Tampa, Florida, 33617.

Applications may not be sent by facsimile (FAX). In the interest of fairness to all competing applicants, this deadline is firm as to date and hour, and VA will not consider any application that is received after the deadline. Applicants should consider submitting early to avoid any risk of loss of eligibility brought about by unanticipated delays, computer service outages (in the case of Grants.gov), or other delivery-related problems.

For a copy of the application package: Download directly from VA's Homeless Providers Grant and Per Diem Program Web site at http://www.va.gov/HOMELESS/GPD.asp; or obtain a copy from http://www.grants.gov. Questions should be referred to the Grant and Per Diem Program at (toll-free) (877) 332-0334. For additional information on VA's Homeless Providers Grant and Per Diem Program, see 38 CFR part 61.

Applications must arrive as a complete package. Materials arriving separately will not be included in the application package for consideration and may result in the application being rejected or not funded. Applicants should ensure that the items listed in the “application requirements” section K of this NOFA are addressed in their application.

D. Allocation

Under funding priority 1 approximately $20 million is available for per diem only awards under this NOFA for a period beginning on the date that the grant is awarded and ending on or about September 30, 2015. The maximum amount of the per diem award under Funding Priority 1 for any awardee may not exceed $1.2 million for the entire grant period. Funding for the entire grant period will be obligated at the time of the award and available for draw down by the grantee over the grant period. Monthly reimbursements will be issued for bed days of care provided based upon the project's approved per diem rate. VA will not award more than $48,000.00 per bed over the entire grant period based on the average number of beds to be provided as stated in the grant application. VA payment is limited to the applicant's cost of care per eligible veteran minus other sources of payments to the applicant for furnishing services to homeless veterans up to the per day rate established by the Grant and Per Diem Program Office, which is currently $38.90 per occupied bed day of care provided. Grantees will be required to support their request for per diem payment with adequate fiscal documentation as to program income and expenses.

Under funding priorities 2 through 4 approximately $2 million dollars per year is available for funding in the form of per diem payments issued to the grantee subject to availability of funds and the grantee's compliance with 38 CFR 61.1-61.82.

E. Award Period

For the purposes of this NOFA under Funding Priority 1, the award period will end on or about September 30, 2015, a period of at least 3 years depending on the exact date of the award. By way of example, a grant awarded on August 1, 2012, and ending on September 30, 2015, would constitute an award lasting 3 years and 2 months. The final award period will be established in the award letter. For the purpose of this NOFA under Funding Priorities 2 through 4, the award period will be from the date of award and will continue subject to availability of funds and the grantee's compliance with 38 CFR 61.1-61.82.

F. Implementation Timeline

All projects within all funding priorities are expected to pass inspection and become operational within 90 days from the date of award. Failure to meet the 90-day milestone may result in the per diem award being terminated.

G. Funding Priorities

All applicants must submit a cover letter with their application indicating under which funding priority the application is to be considered. Applicants may not request more than one funding priority per application. Failure to identify a funding priority in a cover letter or requesting more than one funding priority will result in the application being placed in Funding Priority 4. Funding priorities for this NOFA are as follows:

1. Funding Priority 1—In an effort to promote increased housing stabilization VA is encouraging eligible entities to use the following “Transition in Place” housing model to aid in VA's efforts to end homelessness among veterans.

The “Transition in Place” housing model offers residents housing in which support services transition out of the residence over time, rather than the resident. This leaves the resident in place at the residence and not forced to find other housing in 24 months or less. This model does not support discharge planning that would have the veteran transition in place to HUD-VASH as the HUD-VASH program targets a veteran population in need of specialized case management. The concept of “Transition in Place” under this NOFA is for eligible entities to identify or convert existing suitable apartment-style housing where homeless veteran participants would receive time-limited supportive services optimally for a period of 6-12 months, but not to exceed 24 months. Upon completion, the veteran must be able to “transition in place” by assuming the lease or other long-term agreement which enables the unit in which he or she resides to be considered the veteran's permanent housing.

Grantees are expected to replace units as they are converted to permanent housing in order to maintain the average number of bed days as stated in the application during the entire grant period. Once the veteran assumes the lease or other long-term agreement, VA will no longer provide funding for the unit under this NOFA. For example, each time a veteran assumes the lease or other long-term agreement for the apartment, the grantee must identify a new unit in which to place another veteran. By program design, transition to permanent housing should occur as rapidly as possible, and grantees should continually be acquiring and coordinating with VA on the inspection of new units so as to maintain a steady number of veterans served.

Applicants applying under Funding Priority 1 must own or lease apartments intended as permanent housing for an individual or single family. Apartments must meet the inspection standards outlined at 38 CFR 61.80, and have the following characteristics:

i. Private access without unauthorized passage through another dwelling unit or private property;

ii. Sanitary facilities within the unit;

iii. Basic furnishings; and

iv. Suitable space and equipment within the unit to store, prepare, and serve food in a sanitary manner (including, at a minimum, a refrigerator, freezer, sink, and stove). Note: Microwave ovens, hot plates, or similar items are not suitable substitutes for an operational stove.

VA offers current grantees the ability to convert existing per diem only projects to this model. Current capital grantees should contact the GPD Program Office to determine eligibility due to recapture and disposition requirements that may apply to their capital grants.

Of those eligible entities that are legally fundable in Funding Priority 1, the highest-ranked applications for which funding is available will be conditionally selected for eligibility to receive a per diem only award in accordance with their ranked order until funding is expended (approximately $20 million). The Department places special emphasis on addressing the needs of underserved populations, including homeless women veterans with or without the care of dependent children.

2. Funding Priority 2—VA is offering the opportunity to rural applicants whose project sites have a Rural-Urban Commuting Area Code (RUCA) of 10.0 to 10.6, to apply for funding under this NOFA to create transitional housing and services for homeless veterans not to exceed 20 beds per project. To determine if your project's RUCA code qualifies for this priority, potential applicants should go to www.va.gov/homeless/gpd.asp.

If your project has more than one location, all must have a RUCA code of 10.0 to 10.6.

The project site address(es) and zip code(s) must be clearly stated in the application in order to determine eligibility under this funding priority. If eligibility cannot be determined, the application will be placed in Funding Priority 4.

Of those eligible entities in the second funding priority that are legally fundable, the highest scoring applicants will be funded first until approximately 50 beds are awarded.

3. Funding Priority 3—VA is offering the opportunity to Indian Tribal Governments or non-profit agencies that will provide transitional housing and services on Indian Tribal Property to apply for funding under this NOFA to create transitional housing and services for homeless veterans not to exceed 20 beds per project. Eligible entities that are Indian Tribal Governments or non-profit agencies willing to provide transitional housing and services on Indian Tribal Property will be considered in the third funding priority. Of those eligible entities in the third funding priority that are legally fundable, the highest-scoring applicants will be funded first until approximately 50 beds are awarded. Note: Non-profit agencies that apply under this priority will be required to provide a letter of assurance from the Indian Tribal Government that, if funded, the provision of service will occur on Indian Tribal Property.

4. Funding Priority 4—VA is encouraging interested state and local governments, faith-based and community-based organizations, as well as eligible entities located in the District of Columbia, the Commonwealth of Puerto Rico, or any territory or possession of the United States, to apply for funding under this NOFA to create transitional housing and services not to exceed 20 beds per project. Applicants should be aware of the needs of justice-involved homeless veterans (i.e., veterans who are not incarcerated but are involved in the criminal justice system). Eligible entities will be considered in the fourth funding priority as applicable. Of those eligible entities that are legally fundable, the highest-ranked application for which funding is available will be conditionally selected for eligibility to receive a per diem only award in accordance with their ranked order until approximately 50 beds are awarded.

H. Inspections and Monitoring Requirements

VA places a great deal of emphasis on the responsibility and accountability of grantees. VA has procedures in place to monitor services provided to homeless veterans and outcomes associated with the services provided in grant and per diem-funded programs. VA is also implementing new procedures to further this effort. Applicants should be aware of the following:

1. All grantees are required to ensure that facilities used under this NOFA meet the Life Safety Code of the National Fire and Protection Association. Please note, typically the Life Safety Code is more stringent than local or state codes. No additional funds will be made available for capital improvements under this per diem only NOFA. Applicants also should note that all facilities, unless they are specifically exempted under the Life Safety Code, are required to have an operational sprinkler system. VA will conduct an inspection that grantee sites must pass prior to grantees being able to submit a request for per diem payment to ensure this requirement is met. Applicants should take into consideration the logistics associated with conducting inspections and providing regular case management involved with numerous site locations and/or sites that are significantly dispersed from each other.

2. Each per diem-funded program will have a liaison appointed from a nearby VA medical facility to provide oversight and monitor services provided to homeless veterans in the per diem-funded program. Monitoring will include at least an annual review of each per diem program's progress toward meeting internal goals and objectives in helping veterans attain housing stability, adequate income support, and self-sufficiency as identified in each per diem program's original application. Monitoring will also include a review of the agency's income and expenses as they relate to this project to ensure per diem payment is accurate.

3. Each per diem-funded program will participate in VA's national program monitoring and evaluation system. It is the intent of VA to develop specific performance targets with respect to housing for homeless veterans. VA's monitoring procedures will be used to determine successful accomplishment of these housing outcomes for each per diem-funded program.

4. Grantees will be expected to enter data into a Homeless Management Information System (HMIS) web-based software application and bed totals in the Homeless Inventory Count. This data will consist of information on the veterans served and types of supportive services provided by grantees. Grantees must treat the data for activities funded by the Grant and Per Diem Program separate from that of activities funded by other programs. Grantees will be required to export client-level data for activities funded by the Grant and Per Diem Program to VA on a regular basis.

I. Payments

Under this NOFA, VA will make per diem payments in a method consistent with VA policy. Per diem will be paid only for eligible veterans (i.e., Veterans whom VA refers to the grantee, or for whom VA authorizes the provision of services) and will be available for the periods of awards specified in Section E of this NOFA. All payment specifics will be given to the grantee at the time of award. At no time may grantees draw more than the maximum approved per diem rate as authorized by VA's Grant and Per Diem Program Office. All costs charged to the per diem grant must be allowable under the applicable OMB Circulars for Grants Management (codified at 2 CFR parts 225 and 230).

J. Application Selection

VA will review all per diem only grant applications in response to this NOFA. Applicants will then be ranked based on score and any ranking criteria set forth in this NOFA only if the applicant scores at least 500 cumulative points from paragraphs (b) (c) (d) (e) and (i) of 38 CFR 61.13. The highest-ranked application for which funding is available, within the highest funding priority, will be selected for eligibility to receive per diem payment in accordance with their ranked order until VA expends all the funds.

K. Application Requirements

Applicants must address the following within the application:

Targeting—Section 6, Question C1, pg. 10: Describe your agency's admission criteria for veterans that would be appropriate for this project.

Targeting—Section 6, question C3, pg. 11: VA is placing emphasis on serving those homeless veterans who do not currently have a stable housing situation (i.e., not currently in another Grant and Per Diem Program or VA-sponsored housing program). In this section, please identify where your organization will target its outreach efforts to identify appropriate veterans for this program.

Project Plan—Section 7, area 1 (1a), pg. 15: What is the percentage of veterans that will successfully transition to permanent housing?

Project Plan—Section 7, area 1 (2a), pg. 17: What is the percentage of veterans served that will be employed or receiving benefits at the conclusion of the transitional housing?

Project Plan—Section 7, area 2, pg. 21: Address how your agency will facilitate the provision of nutritional meals for the veterans. Be sure to describe how veterans with little or no income will be assisted.

Project Plan—Section 7, area 6, pg. 25: VA places great emphasis on placing veterans in the most appropriate housing situation as rapidly as possible. In this section, provide a timetable and the specific services to include follow-up that supports housing stabilization. Include evidence of coordination of transition services with which your agency expects to have for veterans.

Project Plan—Section 7, area 7, pg. 26: For Funding Priority 1 applicants only, describe in this section how your agency will manage the conversion of the dwelling unit and the services provided to the participant from transitional phase to permanent housing and what follow-up services will be provided to the veteran once converted to permanent housing. Additionally, describe the instrument that will be used (lease, program agreement, memorandum of understanding, etc) to ensure the veteran's permanent occupancy once unit has converted. Moreover, include how this will enhance housing outcomes leading to more timely access to permanent housing.

Ability—Section 8, question A, pg. 28: In addition to the one page resume and/or job description for key personnel, provide a staffing plan that outlines how your organization will carry out this proposal (i.e., a full-time housing specialist).

Site Description—Section 10, question C, pg. 34: For Funding Priority 1 applicants only, describe the availability of current housing stock in your community that would be appropriate for this program and would meet the standards required by Life Safety Code and 38 CFR 61.1—61.82.

Application for Federal Assistance (SF 424)—Applicants for Funding Priority 1—in block 15a, Federal; identify the total amount of per diem funding your agency is requesting for operation under the entire grant award period of this NOFA (this number may not exceed $48,000 per bed over the entire grant period or $1.2 million total).

Applicants should be careful to complete the proper application package. Submission of an incorrect or incomplete application package will result in the application being rejected at threshold. Application packages must include all required forms and certifications. Selections will be made based on criteria described in the application, Final Rule, and NOFA. Applicants who are conditionally selected will be notified of any additional information needed to confirm or clarify information provided in the application. Applicants will then be notified of the deadline to submit such information. If an applicant is unable to meet any conditions for grant award within the specified time frame, VA reserves the right to not award funds and to use the funds available for other grant and per diem applicants.

Dated: February 16, 2012.
John R. Gingrich,
Chief of Staff, Department of Veterans Affairs.

[FR Doc. 2012-4880 Filed 2-29-12; 8:45 am]

BILLING CODE 8320-01-P